DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. Currently, the Employment Standards Administration is soliciting comments concerning the proposed collection: Energy Employees Occupational Illness Compensation Program Act Forms (EE-1, EE-2, EE-3, EE-4, EE-7, EE-8, EE-9, EE-20). A copy of the proposed information collection request can be obtained by contacting the office listed below in the addressee section of this Notice.

DATES: Written comments must be submitted to the office listed in the addressee section below on or before March 22, 2004.

ADDRESSES: Ms. Hazel M. Bell, U.S. Department of Labor, 200 Constitution Ave., NW., Room S-3201, Washington, DC 20210, telephone (202) 693-0418, fax (202) 693-1451, Email bell.hazel@dol.gov. Please use only one method of transmission for comments (mail, fax, or Email).

SUPPLEMENTARY INFORMATION

I. Background

The Office of Workers' Compensation Programs (OWCP) administers the Energy Employees Occupational Illness Compensation Program Act of 2000 (EEOICPA), 42 U.S.C. 7384 et seq. The Act provides for the timely, uniform, and adequate compensation of covered employees and, where applicable, survivors of such employees, suffering from illnesses incurred in the performance of duty for the Department of Energy and certain of its contractors and subcontractors. The Act sets forth eligibility criteria for covered employees for compensation under the program and outlines the elements of compensation payable from the Fund. The information collected is used to obtain demographic, factual and medical information necessary to determine entitlement to benefits under the EEOICPA. The eight forms listed below are reporting requirements under the Act and are required to determine a claimant's eligibility for compensation and to receive benefits under the EEOICPA. The forms reporting requirements are: EE-1, Claim for Benefits Under Energy Employees Occupational Illness Compensation Program Act is used to file notice of claim under the EEOICPA, and is to be completed by the living current or former employer; EE-2, Claim for Survivor Benefits Under Energy Employees Occupational Illness Compensation Program Act is used by the survivor of a covered employee to file notice of claim under the EEOICPA; EE-3, Employment History for Claim Under Energy Employees Occupational Illness Compensation Program Act is used to gather information regarding the employee's work history; EE-4, Employment History Affidavit for Claim Under the Energy Employees Occupational Illness Compensation Program Act is used to support the claimant's employment history by affidavit; EE-7, Medical Requirements Under the Energy Employees Occupational Illness Compensation Program Act informs an employee, survivor or physician of the medical evidence needed to establish a diagnosis of a covered condition; EE-8, Letter to Claimant is sent with enclosure EN-8 to obtain information on the employee's smoking history when lung cancer is claimed; EE-9, Letter to Claimant is sent with enclosure EN-9 to obtain information concerning the race or ethnicity of the employee when skin cancer is claimed; and EE-20, Letter to Claimant is sent with enclosure EN-20 to verify acceptance of payment on approved claims. This information collection is currently approved for use through July 31, 2004.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks approval for the extension in order to carry out its responsibility to determine a claimant's eligibility for compensation under the EEOICPA.

Type of Review: Extension.

Agency: Employment Standards Administration.

Title: Energy Employee Occupational Illness Compensation Act Forms (various).

OMB Number: 1215-0197.

Agency Number: EE-1, EE-2, EE-3, EE-4, EE-7, EE-8, EE-9, EE-20.

Affected Public: Individuals or households; Business or other for-profit.

Total Respondents: 50,019.

Total Responses: 50,019.

Time per Response: 5 to 60 minutes.

Frequency: As needed.

Estimated Total Burden Hours: 22,495.

Total Burden Cost (capital/startup): $0.

Total Burden Cost (operating/maintenance): $12,742.

Comments submitted in response to this notice will be summarized and/or included in the request for Office of Management and Budget approval of the information collection request; they will also become a matter of public record.

Dated: January 15, 2004.
Bruce Bohanon,
Chief, Branch of Management Review and Internal Control, Division of Financial Management, Office of Management, Administration and Planning, Employment Standards Administration.

[FR Doc. 04-1310 Filed 1-21-04; 8:45 am]

BILLING CODE 4510-CR-P